LIBRARY OF CONGRESS

United States Copyright Office

[Docket No. 2015-3]

Extension of Comment Period; Mass Digitization Pilot Program; Request for Comments

AGENCY: U.S. Copyright Office, Library of Congress.

ACTION: Extension of comment period.

SUMMARY: The U.S. Copyright Office is extending the deadline for public comments that address topics listed in the Office's June 9, 2015 Notice of Inquiry regarding a mass digitization “pilot program” for certain copyrighted works.

DATES: Comments are now due no later than 5:00 p.m. EDT on October 9, 2015.

ADDRESSES: All comments should be submitted electronically. To submit comments, please visit http://copyright.gov/policy/massdigitization. The Web site interface requires submitters to complete a form specifying name and organization, as applicable, and to upload comments as an attachment via a browser button. To meet accessibility standards, commenting parties must upload comments in a single file not to exceed six megabytes (“MB”) in one of the following formats: A Portable Document File (“PDF”) format that contains searchable, accessible text (not an image); Microsoft Word; WordPerfect; Rich Text Format (“RTF”); or ASCII text file format (not a scanned document). The form and face of the comments must include both the name of the submitter and organization. The Office will post all comments publicly on the Office's Web site exactly as they are received, along with names and organizations. If electronic submission of comments is not feasible, please contact the Office at 202-707-1027 for special instructions.

FOR FURTHER INFORMATION CONTACT: Kevin Amer, Senior Counsel for Policy and International Affairs, by telephone at 202-707-1027 or by email at kamer@loc.gov.

SUPPLEMENTARY INFORMATION: On June 4, 2015, the Copyright Office issued a report entitled Orphan Works and Mass Digitization, in which it recommended that Congress consider the implementation of a legal framework known as extended collective licensing to facilitate certain mass digitization activities.¹ The Office recommended that such legislation initially take the form of a limited “pilot program” based on the general parameters described in the Office's report and developed through additional public outreach and discussion. On June 9, 2015, the Office issued a Notice of Inquiry inviting public comment on several issues regarding the practical operation of such a system.² To provide sufficient time for commenters to respond, the Office is extending the time for filing comments from August 10, 2015 to October 9, 2015.

¹ U.S. Copyright Office, Orphan Works and Mass Digitization: A Report of the Register of Copyrights (2015), available at http://copyright.gov/orphan/reports/orphan-works2015.pdf.

² Mass Digitization Pilot Program; Request for Comments, 80 FR 32614 (June 9, 2015).

Dated: July 23, 2015.
Karyn A. Temple Claggett,
Associate Register of Copyrights and Director of Policy and International Affairs.

[FR Doc. 2015-18473 Filed 7-28-15; 8:45 am]

BILLING CODE 1410-30-P